NATIONAL CREDIT UNION ADMINISTRATION

Sunshine Act Meeting; Notice of Change in Subject of Meeting

The National Credit Union Administration Board determined that its business required the deletion of the following item from the previously announced closed meeting (Federal Register, Vol. 65, No. 35, page 8748, February 22, 2000) scheduled for Thursday, February 24, 2000.

2. One (1) Personnel Matter. Closed pursuant to exemptions (2), (5), (6), (7) and (9)(B).

The Board voted unanimously that agency business required that this item be deleted from the closed agenda and that no earlier announcement of this change was possible.

The previously announced items were:

1. Administrative Action under Section 208 of the Federal Credit Union Act. Closed pursuant to exemptions (8), (9)(A)(ii) and (9)(B).

2. Three (3) Personnel Actions. Closed pursuant to exemptions (2), (5), (6), (7) and (9)(B).

FOR FURTHER INFORMATION CONTACT: Becky Baker, Secretary of the Board, Telephone (703) 518-6304.

Becky Baker,
Secretary of the Board.

[FR Doc. 00-5085 Filed 2-28-00; 3:46 pm]

BILLING CODE 7535-01-M